DEPARTMENT OF COMMERCE

International Trade Administration

[A-570-890]

Notice of Amended Final Determination of Sales at Less Than Fair Value and Antidumping Duty Order: Wooden Bedroom Furniture From the People's Republic of China

AGENCY: Import Administration, International Trade Administration, Department of Commerce.

EFFECTIVE DATE: January 4, 2005.

FOR FURTHER INFORMATION CONTACT: Aishe Allen, Import Administration, International Trade Administration, U.S. Department of Commerce, 14th Street and Constitution Avenue NW., Washington, DC 20230; telephone: (202) 482-0172.

Amendment to Final Determination

In accordance with sections 735(d) and 777(i)(1) of the Tariff Act of 1930, as amended, (“the Act”), on November 17, 2004, the Department of Commerce (“the Department”) published the Notice of Final Determination of Sales at Less Than Fair Value in the investigation of wooden bedroom furniture from the People's Republic of China (“PRC”) (“Final Determination”). See Final Determination and corresponding “Issues and Decision Memorandum” dated November 8, 2004. Between November 12, 2004, and November 22, 2004, the following parties filed timely allegations that the Department made various ministerial errors in the Final Determination: Superwood Company Limited; Shanghai SMEC Corporation; follows: Dongguan Chunsan Wood Products Co., Ltd.; Trendex Industries Limited; the American Furniture Manufacturers Committee for Legal Trade and its individual members and the Cabinet Makers, Millmen, and Industrial Carpenters Local 721, UBC Southern Council of Industrial Worker's Local Union 2305, United Steel Workers of American Local 193U, Carpenters Industrial Union Local 2093, and Teamsters, Chauffeurs, Warehousemen and Helper Local 991 (collectively “Petitioners”); Rui Feng Woodwork Co., Ltd., Rui Feng Lumber Development Co., Ltd., and Dorbest Limited (“Dorbest”); Lacquer Craft Mfg. Co., Ltd. (“Lacquer Craft”); Dongguan Lung Dong Furniture Co., Ltd., and Dongguan Dong He Furniture Co., Ltd., (“Lung Dong”); and Shing Mark Enterprise Co., Ltd., Carven Industries Limited (BVI), Carven Industries Limited (HK), Dongguan Zhenxin Furniture Co., Ltd., and Dongguan Yongpeng Furniture Co., Ltd. (“Shing Mark”); Hongyu Furniture (Shenzhen) Limited (“Hongyu”); American Signature, Inc., and Value City Furniture (“ASI/VCF”) and Pulaski Furniture Corp. (“Pulaski”) with respect to ministerial errors in the calculation of the margin for their supplier, Dorbest.

On November 29, 2004, Petitioners filed comments rebutting the interested parties' ministerial-error allegations. On the same day, Lacquer Craft, Lung Dong, Shing Mark, and Starcorp Furniture (Shanghai) Co., Ltd., Orin Furniture (Shanghai) Co., Ltd., and Shanghai Starcorp Furniture Co., Ltd. (“Starcorp”), filed comments rebutting the Petitioners ministerial-error allegations. Further, on November 29, 2004, Petitioners submitted a letter requesting the Department to strike from the record Exhibit 12 and any references to this Exhibit in Shing Mark's November 22, 2004, ministerial-error submission because it contains new untimely factual information. On November 30, 2004, Shing Mark filed a letter stating the Department should reject Petitioners' request to strike certain information because the information is not new or untimely. Also, on November 30, 2004, Petitioners filed a letter requesting the Department to strike from the record Starcorp's November 29, 2004, submission as untimely filed ministerial- error comments. On December 1, 2004, Starcorp filed a letter stating that its letter was both timely and appropriate. On December 6, 2004, Petitioners filed a letter requesting the Department to strike from the record portions of Lung Dong's November 29, 2004, rebuttal comments because it allegedly contained untimely raised ministerial-error allegations. On December 10, 2004, we returned Lung Dong's and Starcorp's November 29, 2004, submissions because they contained untimely ministerial-error allegations. Lung Dong submitted an amended version of its November 29, 2004, submission on December 14, 2004.

After analyzing all interested parties comments and rebuttal comments, we have determined, in accordance with 19 CFR 351.224(e), that we made ministerial errors in the calculations we performed for the final determination. For a detailed discussion of these ministerial errors, and our analysis, see the “Amended Issues and Decision Memorandum” dated December 27, 2004, and the company specific amended final determination analysis memoranda dated December 27, 2004.

Additionally, in the Final Determination, we determined that several companies qualified for separate-rate status. The margin we calculated in the Final Determination for these companies was 8.64 percent. Because the rates of the selected mandatory respondents have changed since the Final Determination, we have recalculated the rate for the non-mandatory respondents which the Department determined to be entitled to separate rate. The rate for Section A respondents is now 6.65%. See Memorandum to the File from Eugene Degnan, Amended Calculation of Section A Rate, dated December 27, 2004.

Therefore, in accordance with 19 CFR 351.224(e), we are amending the final determination of sales at LTFV in the antidumping duty investigation of wooden bedroom furniture from the PRC. The revised weighted-average dumping margins are in the “Antidumping Duty Order” section, below.

Antidumping Duty Order

On December 23, 2004, in accordance with section 735(d) of the Act, the International Trade Commission (“ITC”) notified the Department of its final determination pursuant to section 735(b)(1)(A)(i) of the Act that an industry in the United States is materially injured by reason of less-than-fair-value imports of subject merchandise from the PRC. Therefore, in accordance with section 736(a)(1) of the Act, the Department will direct U.S. Customs and Border Protection (“CBP”) to assess, upon further instruction by the Department, antidumping duties equal to the amount by which the normal value of the merchandise exceeds the export price of the merchandise for all relevant entries of wooden bedroom furniture from the PRC. With the exception of wooden bedroom furniture produced and exported by Markor International Furniture (Tianjin) Manufacturing Company, Ltd. (a company excluded from this order), these antidumping duties will be assessed on all unliquidated entries of wooden bedroom furniture from the PRC entered, or withdrawn from the warehouse, for consumption on or after June 24, 2004, the date on which the Department published its Notice of Preliminary Determination of Sales at Less Than Fair Value and Postponement of Final Determination: Wooden Bedroom Furniture from the People's Republic of China, 69 FR 35312 (June 24, 2004) (“Preliminary Determination”).

Section 733(d) of the Act states that instructions issued pursuant to an affirmative preliminary determination may not remain in effect for more than four months except where exporters representing a significant proportion of exports of the subject merchandise request the Department to extend that four-month period to no more than six months. At the request of exporters that account for a significant proportion of wooden bedroom furniture, we extended the four-month period to no more than six months. See Preliminary Determination. In this investigation, the six-month period beginning on the date of the publication of the preliminary determination ends on December 21, 2004. Furthermore, section 737 of the Act states that definitive duties are to begin on the date of publication of the ITC's final injury determination. Therefore, in accordance with section 733(d) of the Act and our practice, we will instruct CBP to terminate the suspension of liquidation and to liquidate, without regard to antidumping duties, unliquidated entries of wooden bedroom furniture from the PRC entered, or withdrawn from warehouse, for consumption on or after December 21, 2004, and before the date of publication of the ITC 's final injury determination in the Federal Register. Suspension of liquidation will continue on or after this date.

On or after the date of publication of the ITC's notice of final determination in the Federal Register, CBP will require, at the same time as importers would normally deposit estimated duties on this merchandise, a cash deposit equal to the estimated weighted-average antidumping duty margins as listed below. The “PRC-wide” rate applies to all exporters of subject merchandise not listed specifically. The weighted-average dumping margins are as follows:

Company | Weighted- average margin (percent)
Dongguan Lung Dong Furniture Co., Ltd., or Dongguan Dong He Furniture Co., Ltd | 2.32
Rui Feng Woodwork Co., Ltd., or Rui Feng Lumber Development Co., Ltd. or Dorbest Limited | 7.87
Lacquer Craft Mfg. Co., Ltd | 2.66
Markor International Furniture (Tianjin) Manufacturing Company, Ltd | 0.83
Shing Mark Enterprise Co., Ltd., or Carven Industries Limited (BVI), or Carven I Industries Limited (HK), or Dongguan Zhenxin Furniture Co., Ltd., or Dongguan Yongpeng Furniture Co., Ltd | 4.96
Starcorp Furniture (Shanghai) Co., Ltd., or Orin Furniture (Shanghai) Co., Ltd., or Shanghai Starcorp Furniture Co., Ltd | 15.78
Alexandre International Corp., or Southern Art Development Ltd., or Alexandre Furniture (Shenzhen) Co., Ltd., or Southern Art Furniture Factory | 6.65
Art Heritage International, Ltd., or Super Art Furniture Co., Ltd., or Artwork Metal & Plastic Co., Ltd., or Jibson Industries Ltd., or Always Loyal International | 6.65
Billy Wood Industrial (Dong Guan) Co., Ltd., or Great Union Industrial (Dongguan) Co., Ltd., or Time Faith Ltd | 6.65
Changshu HTC Import & Export Co., Ltd | 6.65
Cheng Meng Furniture (PTE) Ltd., or China Cheng Meng Decoration & Furniture (Suzhou) Co., Ltd | 6.65
Chuan Fa Furniture Factory | 6.65
Classic Furniture Global Co., Ltd | 6.65
Clearwise Co., Ltd | 6.65
COE Ltd | 6.65
Dalian Guangming Furniture Co., Ltd | 6.65
Dalian Huafeng Furniture Co., Ltd | 6.65
Dongguan Cambridge Furniture Co., or Glory Oceanic Co., Ltd | 6.65
Dongguan Chunsan Wood Products Co., Ltd., or Trendex Industries Ltd | 6.65
Dongguan Creation Furniture Co., Ltd., or Creation Industries Co., Ltd | 6.65
Dongguan Grand Style Furniture, or Hong Kong Da Zhi Furniture Co., Ltd | 6.65
Dongguan Great Reputation Furniture Co., Ltd | 6.65
Dongguan Hero Way Woodwork Co., Ltd., or Dongguan Da Zhong Woodwork Co., Ltd., or Hero Way Enterprises Ltd., or Well Earth International Ltd | 6.65
Dongguan Hung Sheng Artware Products Co., Ltd., or Coronal Enterprise Co., Ltd | 6.65
Dongguan Kin Feng Furniture Co., Ltd | 6.65
Dongguan Kingstone Furniture Co., Ltd., or Kingstone Furniture Co., Ltd | 6.65
Dongguan Liaobushangdun Huada Furniture Factory, or Great Rich (HK) Enterprise Co. Ltd | 6.65
Dongguan Qingxi Xinyi Craft Furniture Factory (Joyce Art Factory) | 6.65
Dongguan Singways Furniture Co., Ltd | 6.65
Dongguan Sunrise Furniture Co., or Taicang Sunrise Wood Industry Co., Ltd., or Shanghai Sunrise Furniture Co., Ltd., or Fairmont Designs | 6.65
Dongying Huanghekou Furniture Industry Co., Ltd | 6.65
Dream Rooms Furniture (Shanghai) Co., Ltd | 6.65
Eurosa (Kunshan) Co., Ltd., or Eurosa Furniture Co., (PTE) Ltd | 6.65
Ever Spring Furniture Co. Ltd., or S.Y.C. Family Enterprise Co., Ltd | 6.65
Fine Furniture (Shanghai) Ltd | 6.65
Foshan Guanqiu Furniture Co., Ltd | 6.65
Fujian Lianfu Forestry Co., Ltd., or Fujian Wonder Pacific Inc | 6.65
Gaomi Yatai Wooden Ware Co., Ltd., or Team Prospect International Ltd., or Money Gain International Co | 6.65
Garri Furniture (Dong Guan) Co., Ltd., or Molabile International, Inc., or Weei Geo Enterprise Co., Ltd | 6.65
Green River Wood (Dongguan) Ltd | 6.65
Guangming Group Wumahe Furniture Co., Ltd | 6.65
Hainan Jong Bao Lumber Co., Ltd., or Jibbon Enterprise Co., Ltd | 6.65
Hamilton & Spill Ltd | 6.65
Hang Hai Woodcraft's Art Factory | 6.65
Hualing Furniture (China) Co., Ltd., or Tony House Manufacture (China) Co., Ltd., or Buysell Investments Ltd., or Tony House Industries Co., Ltd | 6.65
Jardine Enterprise, Ltd | 6.65
Jiangmen Kinwai Furniture Decoration Co., Ltd | 6.65
Jiangmen Kinwai International Furniture Co., Ltd | 6.65
Jiangsu Weifu Group Fullhouse Furniture Manufacturing. Corp | 6.65
Jiangsu Yuexing Furniture Group Co., Ltd | 6.65
Jiedong Lehouse Furniture Co., Ltd | 6.65
King's Way Furniture Industries Co., Ltd., or Kingsyear Ltd | 6.65
Kuan Lin Furniture (Dong Guan) Co., Ltd., or Kuan Lin Furniture Factory, or Kuan Lin Furniture Co., Ltd | 6.65
Kunshan Lee Wood Product Co., Ltd | 6.65
Kunshan Summit Furniture Co., Ltd | 6.65
Langfang Tiancheng Furniture Co., Ltd | 6.65
Leefu Wood (Dongguan) Co., Ltd., or King Rich International, Ltd | 6.65
Link Silver Ltd. (V.I.B.), or Forward Win Enterprises Co. Ltd., or Dongguan Haoshun Furniture Ltd | 6.65
Locke Furniture Factory, or Kai Chan Furniture Co., Ltd., or Kai Chan (Hong Kong) Enterprise Ltd., or Taiwan Kai Chan Co., Ltd | 6.65
Longrange Furniture Co., Ltd | 6.65
Nanhai Baiyi Woodwork Co., Ltd | 6.65
Nanhai Jiantai Woodwork Co., Ltd., or Fortune Glory Industrial Ltd. (H.K. Ltd.) | 6.65
Nantong Dongfang Orient Furniture Co., Ltd | 6.65
Nantong Yushi Furniture Co., Ltd | 6.65
Nathan International Ltd., or Nathan Rattan Factory | 6.65
Orient International Holding Shanghai Foreign Trade Co., Ltd | 6.65
Passwell Corporation, or Pleasant Wave Ltd | 6.65
Perfect Line Furniture Co., Ltd | 6.65
Prime Wood International Co., Ltd., or Prime Best International Co., Ltd., or Prime Best Factory, or Liang Huang (Jiaxing) Enterprise Co., Ltd | 6.65
PuTian JingGong Furniture Co., Ltd | 6.65
Qingdao Liangmu Co., Ltd | 6.65
Restonic (Dongguan) Furniture Ltd., or Restonic Far East (Samoa) Ltd | 6.65
RiZhao SanMu Woodworking Co., Ltd | 6.65
Season Furniture Manufacturing Co., or Season Industrial Development Co | 6.65
Sen Yeong International Co., Ltd., or Sheh Hau International Trading Ltd | 6.65
Shanghai Jian Pu Export & Import Co., Ltd | 6.65
Shanghai Maoji Imp and Exp Co., Ltd | 6.65
Sheng Jing Wood Products (Beijing) Co., Ltd., or Telstar Enterprises Ltd | 6.65
Shenyang Shining Dongxing Furniture Co., Ltd | 6.65
Shenzhen Forest Furniture Co., Ltd | 6.65
Shenzhen Jiafa High Grade Furniture Co., Ltd., or Golden Lion International Trading Ltd | 6.65
Shenzhen New Fudu Furniture Co., Ltd | 6.65
Shenzhen Wonderful Furniture Co., Ltd | 6.65
Shenzhen Xiande Furniture Factory | 6.65
Shenzhen Xingli Furniture Co., Ltd | 6.65
Shun Feng Furniture Co., Ltd | 6.65
Songgang Jasonwood Furniture Factory, or Jasonwood Industrial Co., Ltd. S.A | 6.65
Starwood Furniture Manufacturing Co. Ltd | 6.65
Starwood Industries Ltd | 6.65
Strongson Furniture (Shenzhen) Co., Ltd., or Strongson Furniture Co., Ltd., or Strongson (HK) Co | 6.65
Sunforce Furniture (Hui-Yang) Co., Ltd., or Sun Fung Wooden Factory, or Sun Fung Co., or Shin Feng Furniture Co., Ltd., or Stupendous International Co., Ltd | 6.65
Superwood Co., Ltd., or Lianjiang Zongyu Art Products Co., Ltd | 6.65
Tarzan Furniture Industries Ltd., or Samso Industries Ltd | 6.65
Teamway Furniture (Dong Guan) Ltd., or Brittomart Inc | 6.65
Techniwood Industries Ltd., or Ningbo Furniture Industries Limited, or Ningbo Hengrun Furniture Co., Ltd | 6.65
Tianjin Fortune Furniture Co., Ltd | 6.65
Tianjin Master Home Furniture | 6.65
Tianjin Phu Shing Woodwork Enterprise Co., Ltd | 6.65
Tianjin Sande Fairwood Furniture Co., Ltd | 6.65
Tube-Smith Enterprise (ZhangZhou) Co., Ltd., or Tube-Smith Enterprise (Haimen) Co., Ltd., or Billonworth Enterprises Ltd | 6.65
Union Friend International Trade Co., Ltd | 6.65
U-Rich Furniture (Zhangzhou) Co., Ltd., or U-Rich Furniture Ltd | 6.65
Wanhengtong Nueevder (Furniture) Manufacture Co., Ltd., or Dongguan Wanengtong Industry Co., Ltd | 6.65
Woodworth Wooden Industries (Dong Guan) Co., Ltd | 6.65
Xiamen Yongquan Sci-Tech Development Co., Ltd | 6.65
Jiangsu XiangSheng Bedtime Furniture Co., Ltd | 6.65
Xingli Arts & Crafts Factory of Yangchun | 6.65
Yangchun Hengli Co. Ltd | 6.65
Yeh Brothers World Trade, Inc | 6.65
Yichun Guangming Furniture Co., Ltd | 6.65
Yida Co., Ltd., or Yitai Worldwide, Ltd., or Yili Co., Ltd., or Yetbuild Co., Ltd | 6.65
Yihua Timber Industry Co., Ltd | 6.65
Zhang Zhou Sanlong Wood Product Co., Ltd | 6.65
Zhangjiagang Zheng Yan Decoration Co., Ltd | 6.65
Zhangjiagang Daye Hotel Furniture Co., Ltd | 6.65
Zhangzhou Guohui Industrial & Trade Co. Ltd | 6.65
Zhanjiang Sunwin Arts & Crafts Co., Ltd | 6.65
Zhong Shan Fullwin Furniture Co., Ltd | 6.65
Zhongshan Fookyik Furniture Co., Ltd | 6.65
Zhongshan Golden King Furniture Industrial Co., Ltd | 6.65
Zhoushan For-Strong Wood Co., Ltd | 6.65
PRC-Wide Rate* | 198.08
* In the Final Determination, the Department inadvertently listed Tech Lane Wood Mfg. and Kee Jia Wood Mfg. separately in the weighted-average dumping margin chart, which may have led parties to conclude that these companies were entitled to a separate rate. This, in fact, is not the case. Subject merchandise produced/exported by Tech Lane Wood Mfg. and Kee Jia Wood Mfg. is subject to the PRC-wide rate.

This notice constitutes the antidumping duty order with respect to wooden bedroom furniture from the PRC pursuant to section 735(a) of the Act. Interested parties may contact the Department's Central Records Unit, Room B-099 of the main Commerce building, for copies of an updated list of antidumping duty orders currently in effect.

Scope of Order

The product covered by the order is wooden bedroom furniture. Wooden bedroom furniture is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, oriented strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests ¹, highboys ², lowboys ³, chests of drawers ⁴, chests ⁵, door chests ⁶, chiffoniers ⁷, hutches ⁸, and armoires ⁹; (6) desks, computer stands, filing cabinets, book cases, or writing tables that are attached to or incorporated in the subject merchandise; and (7) other bedroom furniture consistent with the above list.

¹ A chest-on-chest is typically a tall chest-of-drawers in two or more sections (or appearing to be in two or more sections), with one or two sections mounted (or appearing to be mounted) on a slightly larger chest; also known as a tallboy.

² A highboy is typically a tall chest of drawers usually composed of a base and a top section with drawers, and supported on four legs or a small chest (often 15 inches or more in height).

³ A lowboy is typically a short chest of drawers, not more than four feet high, normally set on short legs.

⁴ A chest of drawers is typically a case containing drawers for storing clothing.

⁵ A chest is typically a case piece taller than it is wide featuring a series of drawers and with or without one or more doors for storing clothing. The piece can either include drawers or be designed as a large box incorporating a lid.

⁶ A door chest is typically a chest with hinged doors to store clothing, whether or not containing drawers. The piece may also include shelves for televisions and other entertainment electronics.

⁷ A chiffonier is typically a tall and narrow chest of drawers normally used for storing undergarments and lingerie, often with mirror(s) attached.

⁸ A hutch is typically an open case of furniture with shelves that typically sits on another piece of furniture and provides storage for clothes.

⁹ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the Petition excludes the following items: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate ¹⁰; (9) jewelry armories ¹¹; (10) cheval mirrors ¹² (11) certain metal parts ¹³ (12) mirrors that do not attach to, incorporate in, sit on, or hang over a dresser if they are not designed and marketed to be sold in conjunction with a dresser as part of a dresser-mirror set.

¹⁰ As used herein, bentwood means solid wood made pliable. Bentwood is wood that is brought to a curved shape by bending it while made pliable with moist heat or other agency and then set by cooling or drying. See Customs' Headquarters' Ruling Letter 043859, dated May 17, 1976.

¹¹ Any armoire, cabinet or other accent item for the purpose of storing jewelry, not to exceed 24″ in width, 18″ in depth, and 49″ in height, including a minimum of 5 lined drawers lined with felt or felt-like material, at least one side door lined with felt or felt-like material, with necklace hangers, and a flip-top lid with inset mirror. See Memorandum from Laurel LaCivita to Laurie Parkhill, Office Director, Issues and Decision Memorandum Concerning Jewelry Armoires and Cheval Mirrors in the Antidumping Duty Investigation of Wooden Bedroom Furniture from the People's Republic of China dated August 31, 2004.

¹² Cheval mirrors, i.e., any framed, tiltable mirror with a height in excess of 50″ that is mounted on a floor-standing, hinged base.

¹³ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified in subheading 9403.90.7000, HTSUS.

Imports of subject merchandise are classified under statistical category 9403.50.9040 of the HTSUS as “wooden * * * beds” and under statistical category 9403.50.9080 of the HTSUS as “other * * * wooden furniture of a kind used in the bedroom.” In addition, wooden headboards for beds, wooden footboards for beds, wooden side rails for beds, and wooden canopies for beds may also be entered under statistical category 9403.50.9040 of the HTSUS as “parts of wood” and framed glass mirrors may also be entered under statistical category 7009.92.5000 of the HTSUS as “glass mirrors * * * framed.” This investigation covers all wooden bedroom furniture meeting the above description, regardless of tariff classification. Although the HTSUS subheadings are provided for convenience and customs purposes, the written description of the scope of this proceeding is dispositive.

Continuation of Suspension of Liquidation

In accordance with section 735(c)(1)(B) of the Act, we will instruct U.S. Customs and Border Protection (“CBP”) to continue to suspend liquidation of all entries of subject merchandise from the PRC (except for entries of Markor International Furniture (Tianjin) Manufacture Co., Ltd. (“Markor Tianjin”) because this company has a de minimis margin). We will also instruct CBP to require cash deposit or the posting of a bond equal to the estimated amount by which the normal value exceeds the U.S. price as indicated in the chart above. These instructions suspending liquidation will remain in effect until further notice.

This order is published in accordance with section 736(a) of the Act and 19 CFR 351.211.

Dated: December 27, 2004.
Joseph A. Spetrini,
Acting Assistant Secretary for Import Administration.

[FR Doc. E4-3926 Filed 1-3-05; 8:45 am]

BILLING CODE 3510-DS-P